DEPARTMENT OF TRANSPORTATION

Federal Highway Administration

Environmental Impact Statement: Lafayette Parish, Louisiana

AGENCY: Federal Highway Administration (FHWA), DOT.

ACTION: Notice of intent.

SUMMARY: The FHWA is issuing this notice to advise the public that a supplement to a final environmental impact statement will be prepared for a proposed highway project in Lafayette Parish, Louisiana.

FOR FURTHER INFORMATION CONTACT: Joshua Cunningham, Project Delivery Team Leader, Federal Highway Administration, 5304 Flanders Drive, Suite A, Baton Rouge, Louisiana 70808, Telephone: (225) 757-7600.

SUPPLEMENTARY INFORMATION: The FHWA, in cooperation with the Louisiana Department of Transportation and Development, and the Lafayette Consolidated Government, will prepare a supplement to the final environmental impact statement (EIS) on a proposal to upgrade route U.S. 90/U.S. 167 in Lafayette Parish, Louisiana. The original EIS for the improvements (FHWA-LA-EIS-00-01-F) was approved on January 8, 2003. The proposed improvements to U.S. 90/U.S. 167 provide a six-lane fully controlled access freeway from just south of the Lafayette Regional Airport north to the southern terminus of Interstate 49 at the Interstate 10/Interstate 49 Interchange, generally along the existing U.S. 90/U.S. 167 corridor (Evangeline Thruway) with a portion on new alignment, in urban Lafayette, for a distance of approximately 5.5 miles. Improvements to the corridor are considered necessary to provide for existing and projected traffic demand and system linkage.

A Reevaluation of the 2003 Record of Decision (ROD) had recently been initiated and was anticipated to include follow-up to the 21 Commitments in the ROD. In consideration of input from the community, various refinements to the approved alternative are being evaluated. Preparation of a supplement to the EIS has been determined to be the appropriate documentation of the potential refinements.

Considerations include (1) constructing the approved alternative as described in the ROD and (2) incorporation of refinements to the approved alternative. Updated information on the effects of the approved alternative will be incorporated into and studied with any refinements.

Letters describing the proposed action and soliciting comments will be sent to appropriate Federal, State, and local agencies and will be posted on the project Web site for public comment. Public involvement activities have been on-going, including two public meetings recently held. Additional public involvement activities, including a public meeting, will be held in Lafayette between June 2016 and the conclusion of this study. In addition, a public hearing will be held. Public notice will be given of the time and place of the meeting and hearing. The draft supplemental EIS will be available for public and agency review and comment prior to the public hearing. No formal scoping meeting will be held.

To ensure that the full range of issues related to this proposed action are addressed and all significant issues identified, comments and suggestions are invited from all interested parties. Comments or questions concerning this proposed action and the EIS should be directed to the FHWA at the address provided above. (Catalog of Federal Domestic Assistance Program Number 20.205, Highway Research, Planning, and Construction. The regulations implementing Executive Order 12372 regarding intergovernmental consultation on Federal programs and activities apply to this program.)

Issued on: June 14, 2016.
Charles Bolinger,
Division Administrator, Baton Rouge.

[FR Doc. 2016-14583 Filed 6-20-16; 8:45 am]

BILLING CODE 4910-22-P